DEPARTMENT OF LABOR

Employment and Training Administration

[NAFTA-4431]

Owens-BriGam Medical Company, Newland, North Carolina; Notice of Termination of Investigation

Pursuant to Title V of the North American Free Trade Agreement Implementation Act and in accordance with section 250(a), Subchapter D, Chapter 2, Title II of the Trade Act of 1974, as amended (19 USC 2331), an investigation was initiated on January 4, 2001, in response to a worker petition which was filed by a company official on behalf of one worker at Owens-BriGam Medical Company, Newland, North Carolina. Workers at that facility performed administration functions only.

The petitioner has requested that the petition be withdrawn. Consequently further investigation in this case would serve no purpose, and the investigation has been terminated.

Signed in Washington, DC this 6th day of April, 2001.
Linda G. Poole,
Certifying Officer, Division of Trade Adjustment Assistance.

[FR Doc. 01-9715 Filed 4-18-01; 8:45 am]

BILLING CODE 4510-30-M